DEPARTMENT OF HEALTH AND HUMAN SERVICES

Centers for Medicare & Medicaid Services

[Document Identifier: CMS-10280]

Agency Information Collection Activities: Proposed Collection; Comment Request; Correction

AGENCY: Centers for Medicare & Medicaid Services (CMS), HHS.

ACTION: Correction of notice.

SUMMARY: This document corrects the information provided for [Document Identifier: CMS-10180] titled “Home Health Change of Care Notice.”

FOR FURTHER INFORMATION CONTACT: William N. Parham, III, (410) 786-4669.

SUPPLEMENTARY INFORMATION:

I. Background

In the February 14, 2019, issue of the Federal Register (84 FR 7073), we published a Paperwork Reduction Act notice requesting a 30-day public comment period for the information collection request identified under CMS-10180, OMB control number 0938-1196, and titled “Home Health Change of Care Notice.”

II. Explanation of Error

In the February 14, 2019, notice, the information provided in the third column at the top of notice, on page 4073, was published with incorrect information in the “Document Identifier” section. This notice corrects the language found in the “Document Identifier” section under the third column at the top of notice, on page 4073 of the February 14th notice. Also in the February 14, 2019, notice, the information provided in the third column under paragraph 2, on page 7074, was published with incorrect information in the “Form Number.” This notice corrects the language found in the “Form Number” section under the 2nd paragraph on page 7074 of the February 14th notice. All of the other information contained in the February 14, 2019, notice is now correct. The related public comment period remains in effect and ends March 18, 2019.

III. Correction of Error

In FR Doc. 2019-02235 of February 14, 2019 (84 FR 4073), page 7073, the language in the third column, at the top of the notice that begins with “[Document Identifier” and ends with “and CMS-10440],” is corrected to read as follows:

[Document Identifier: CMS-10680, CMS-10280 and CMS-10440]

In FR Doc. 2019-02235 of February 14, 2019 (84 FR 4073), page 7074, the language in the third column, in the second paragraph in that column that begins with “Form Number” and ends with “Frequency: Reporting—Annually; Affected Public: State, Local or Tribal governments,” is corrected to read as follows:

Form Number: CMS-10280 (OMB control number: 0938-1196); Frequency: Reporting—Annually; Affected Public: State, Local or Tribal governments.

Dated: February 14, 2019.
William N. Parham, III,
Director, Paperwork Reduction Staff, Office of Strategic Operations and Regulatory Affairs.

[FR Doc. 2019-02793 Filed 2-20-19; 8:45 am]

BILLING CODE 4120-01-P